DEPARTMENT OF TRANSPORTATION

Pipeline and Hazardous Materials Safety Administration

Hazardous Materials: Delayed Applications

AGENCY: Pipeline and Hazardous Materials Safety Administration (PHMSA), DOT.

ACTION: List of application delayed more than 180 days.

SUMMARY: In accordance with the requirements of 49 U.S.C. 5117(c), PHMSA is publishing the following list of special permit applications that have been in process for 180 days or more. The reason(s) for delay and the expected completion date for action on each application is provided in association with each identified application.

FOR FURTHER INFORMATION CONTACT: Ryan Paquet, Director, Office of Hazardous Materials Special Permits and Approvals, Pipeline and Hazardous Materials Safety Administration, U.S. Department of Transportation, East Building, PHH-30, 1200 New Jersey Avenue Southeast, Washington, DC 20590-0001, (202) 366-4535.

Key to “Reason for Delay”

1. Awaiting additional information from applicant.

2. Extensive public comment under review.

3. Application is technically complex and is of significant impact or precedent-setting and requires extensive analysis.

4. Staff review delayed by other priority issues or volume of special permit applications.

Meaning of Application Number Suffixes

N—New application.

M—Modification request.

R—Renewal Request.

P—Party To Exemption Request.

Issued in Washington, DC, on December 7, 2015.
Donald Burger,
Chief, General Approvals and Permits.

Application No. | Applicant | Reason for delay | Estimated date of completion
MODIFICATION TO SPECIAL PERMITS
16142-M | Nantong CIMC Tank Equipment Co. Ltd. Jiangsu, Province | 4 | 01-20-2016
14808-M | Amtrol-Alfa Metalomecanica, S.A. West Warwick, RI | 4 | 01-31-2016
15972-M | EnTrans International, Athens, TN | 4 | 12-15-2015
15628-M | Chemours Company FC, LLC. Wilmington, DE | 4 | 01-31-2016
14437-M | Columbiana Boiler Company (CBCo) LLC Columbiana, OH | 4 | 12-31-2015
NEW SPECIAL PERMIT APPLICATIONS
15767-N | Union Pacific Railroad Company Omaha, NE | 3 | 02-29-2016
16220-N | Americase Waxahache, TX | 4 | 03-31-2016
16249-N | Optimized Energy Solutions, LLC Durango, CO | 3 | 04-30-2016
16337-N | Volkswagen Group of America (VWGoA) Herndon, VA | 4 | 12-31-2015
16366-N | Department of Defense Scott AFB, IL | 4 | 12-15-2015
16371-N | Volkswagen Group of America (VWGoA) Herndon, VA | 4 | 12-30-2015
16416-N | INOX India Limited Gujarat, India | 4 | 12-31-2105
16461-N | Coastal Hydrotesting LLC Baltimore, MD | 4 | 12-20-2015
16452-N | The Proter & Gamble Company Cincinnati, OH | 4 | 12-31-2015
16477-N | Hydroid, Inc. Pocasset,MA | 4 | 12-31-2015
16495-N | TransRail Innovation Calgary | 4 | 01-31-2016
16474-N | Retriev Technologies Inc. Anaheim, CA | 4 | 01-15-2016
16469-N | ACS UE Testing LLC Denver, CO | 4 | 01-15-2016
16463-N | Salco Products Lemont, IL | 3 | 12-31-2015
16001- | N VELTEK ASSOCIATES, INC. Malvern, PA | 3 | 03-31-2016
PARTY TO SPECIAL PERMITS APPLICATION
16279-P | AEG Environmental Products & Services, Inc. Westminister, MD | 4 | 12-31-2015
RENEWAL SPECIAL PERMITS APPLICATIONS
11860-R | GATX Corporation Chicago, IL | 4 | 12-31-2015

[FR Doc. 2015-32407 Filed 12-28-15; 8:45 am]

BILLING CODE M